DEPARTMENT OF TRANSPORTATION

Pipeline and Hazardous Materials Safety Administration

49 CFR Parts 192, 193, and 195

[Docket No. PHMSA-2008-0301)

RIN 2137-AE41

Pipeline Safety: Periodic Updates of Regulatory References to Technical Standards and Miscellaneous Edits

AGENCY: Pipeline and Hazardous Materials Safety Administration (PHMSA), Department of Transportation (DOT).

ACTION: Notice of proposed rulemaking (NPRM).

SUMMARY: PHMSA is proposing to incorporate by reference (IBR) into the pipeline safety regulations all or parts of new editions of voluntary consensus standards to allow pipeline operators to use current technology, new materials, and other industry and management practices. In this document, PHMSA also proposes to make nonsubstantive edits and clarify regulatory language in certain provisions. These proposed amendments to the pipeline safety regulations would not require pipeline operators to undertake any significant new pipeline safety initiatives.

DATES: Submit comments on the subject of this proposed rule on or before September 21, 2009.

ADDRESSES: You may submit comments, identified by Docket No. PHMSA-2008-0301, by any of the following methods:

• E-Gov Web: http://www.regulations.gov. This site allows the public to enter comments on any Federal Register notice issued by any agency. Follow the online instructions for submitting comments.

• Mail: Docket Management System: U.S. Department of Transportation, 1200 New Jersey Avenue, SE., West Building Ground Floor, Room W12-140, Washington, DC 20590-0001.

• Hand Delivery or Courier: DOT Docket Management System: West Building Ground Floor, Room W12-140, 1200 New Jersey Avenue, SE., between 9 a.m. and 5 p.m. ET, Monday through Friday, except Federal holidays.

• Fax: 202-493-2251.

Instructions: Identify the docket ID, PHMSA 2008-0301, at the beginning of your comments. If you submit your comments by mail, submit two copies. If you wish to receive confirmation that PHMSA received your comments, include a self-addressed stamped postcard. Internet users may submit comments at http://www.regulations.gov.

Note: All comments received will be posted without edits to http://www.regulations.gov, including any personal information provided. Please see the Privacy Act heading below.

Privacy Act: Anyone is able to search the electronic comments received into any of our dockets by the name of the individual submitting the comment (or signing the comment, if submitted on behalf of an association, business, labor union). You may review DOT's complete Privacy Act Statement in the Federal Register published on April 11, 2000 (65 FR 19477-78) or you may visit http://docketsinfo.dot.gov/.

Docket: For access to the docket to read background documents or comments received, go to http://www.regulations.gov. Follow the online instructions for accessing the dockets. Alternatively, you may review the documents in person at the street address listed above.

FOR FURTHER INFORMATION CONTACT: Technical Information: Mike Israni, (202) 366-4571, or by e-mail at mike.israni@dot.gov.

Regulatory Information: Cheryl Whetsel by phone at (202) 366-4431 or by e-mail at cheryl.whetsel@dot.gov.

SUPPLEMENTARY INFORMATION:

I. Background

The National Technology Transfer and Advancement Act of 1995 (Pub. L. 104-113; signed into law March 7, 1996) directs Federal agencies to use voluntary consensus standards instead of government-written standards. The Office of Management and Budget (OMB) Circular A-119: Federal Participation in the Development and Use of Voluntary Consensus Standards and in Conformity Assessment Activities sets the policies on Federal use and development of voluntary consensus standards. Voluntary consensus standards are standards developed or adopted by voluntary bodies that develop, establish, or coordinate technical standards using agreed upon procedures. These organizations update and revise their published standards every 3 to 5 years, to reflect modern technology and best technical practices.

PHMSA's Office of Pipeline Safety staff participates in more than 25 national voluntary consensus standards committees. There are more than 60 standards and specifications incorporated by reference in 49 CFR parts 192, 193, and 195. PHMSA's policy is to adopt voluntary consensus standards when they are applicable to pipeline design, construction, maintenance, inspection, and repair. PHMSA has the ultimate responsibility to ensure that the best interests of public safety are being served. When PHMSA believes some aspect of a standard does not meet this directive, it will not incorporate the new edition. PHMSA has reviewed the revised voluntary consensus standards proposed for incorporation in whole or in part in 49 CFR parts 192, 193, and 195.

Previous updates to incorporate industry standards by reference were published May 24, 1996 (61 FR 26121), June 6, 1996 (61 FR 2877), February 17, 1998 (63 FR 7721), June 14, 2004 (69 FR 32886), June 9, 2006 (71 FR 33402), and February 1, 2007 (72 FR 4657).

II. Updated Standards Not Incorporated by Reference

PHMSA will not propose to incorporate by reference the following updated ASTM International (ASTM), formerly known as the American Society of Testing and Materials, standards.

—ASTM D638; Standard Test Method for Tensile Properties of Plastics (2008 edition)

—ASTM D2513; Standard Specification for Thermoplastic Gas Pressure Pipe, Tubing and Fittings (2007 edition)

—ASTM D2517; Standard Specification for Reinforced Epoxy Resin Gas Pressure Pipe and Fittings (2006)

—ASTM F1055; Standard Specification for Electrofusion-Type Polyethylene Fittings for Outside Diameter Controller Polyethylene Pipe and Tubing (2006)

PHMSA believes that a number of important issues need to be fully addressed by ASTM Committee F-17 and D20.10 before we adopt any new editions. Among these are the issues of appurtenances, marking and or traceability, increase in design factor, and qualifications requirements for new materials. Therefore, we are proposing to continue to reference in the gas pipeline safety regulations the standards found in ASTM D638 (2003 edition), (ASTM D2513 1987 and 1999 edition), ASTM D2517 (2000 edition) and ASTM F1055 (1998 edition) for plastic pipe and fittings.

PHMSA has determined that the following updated National Fire Protection Association (NFPA) standards will not be incorporated by reference at this time.

—NFPA 58; Liquefied Petroleum Gas Code (LP-Gas Code) (2008 edition)

—NFPA 59; Utility LP-Gas Plant Code (2008 edition)

PHMSA currently requires that the NFPA standards prevail if there is a conflict between Part 192 and NFPA Standards 58 or 59. PHMSA is proposing a change to paragraph (c) in § 192.11 for petroleum gas systems. This requirement was put in place to take advantage of more current petroleum gas transportation technology and safety practices. However, PHMSA has noticed that § 192.11(c) is consistently being misinterpreted by operators. Also, we believe the 2008 editions of NFPA Standards 58 and 59 have many conflicts with Part 192. Therefore, we are proposing to revise the regulation to require that Part 192 will prevail if there is a conflict between Part 192 and NFPA 58 or NFPA 59.

PHMSA believes the updated NFPA 58 would supplant the requirements of Part 192 with lesser criteria in the areas of damage prevention; odorization requirements; distribution valve maintenance; and operation and maintenance, emergency, and public awareness planning. In addition, because NFPA 58 does not apply retroactively, the 2008 revisions would not apply to those regulated facilities in existence before this edition was issued. This would create a situation where significant portions of Part 192 would apply to some facilities and NFPA 58 (2008) would apply to others. PHMSA also believes the 2008 edition of NFPA 59 is not in concert with the scope of pipeline facilities as designated in Part 192.1(b)(5), and with Subpart I—Requirements for Corrosion Control. Therefore, we are proposing to continue to reference in the pipeline safety regulations the standards found in NFPA 58 (2004) and NFPA 59 (2004).

III. Updated Standards Partially Incorporated by Reference

PHMSA is proposing to partially incorporate NFPA 59A, Standard for the Production, Storage, and Handling of Liquefied Natural Gas (LNG) (2006 edition) at this time. We are proposing to reference in Part 193 only those specified sections of the 2006 edition pertaining to ultrasonic inspection and to seismic design. PHMSA believes that the NFPA 59A committee has yet to reconcile issues relating to dispersion analyses for vapor releases from process and safety equipment; containers with liquid penetrations at grade; design spill cases for full and double containment containers; standards for impoundment sizing for snow accumulation, severe weather, emergency depressurization, and fuel bunkering. Therefore, except for specified sections in the 2006 edition, PHMSA proposes to continue to reference NFPA 59A (2001).

IV. Updates to Standards Incorporated by Reference

PHMSA proposes the following new editions of currently-referenced standards for incorporation by reference (IBR) in parts 192, 193, and 195. PHMSA is also proposing to amend the titles in the applicable referenced sections to reflect the updated standards as appropriate. This notice proposes to incorporate all or parts of the latest editions of 39 voluntary consensus technical standards referenced in the pipeline safety regulations.

API RP 5L1 & API RP 5LW

PHMSA proposes to adopt American Petroleum Institute (API) Recommended Practice 5LW (API RP 5LW) “Transportation of Line Pipe on Barges and Marine Vessels” into 49 CFR parts 192 and 49 CFR 195. This newly-incorporated standard would be referenced in § 192.65 and a newly-created § 195.207. API RP 5LW would provide a standard for transportation of certain API Specification 5L steel line pipe by ship or barge on both inland and marine waterways. PHMSA also proposes to incorporate by reference API RP 5L1 into the newly-created § 195.207 similar to how it is incorporated by reference in § 192.65. This would provide a standard for liquid operators for the transportation of certain API Specification 5L steel line pipe by railroad.

API 620

PHMSA proposes to adopt API 620 (2008) “Design and Construction of Large, Welded, Low-Pressure Storage Tanks” in 49 CFR Part 193 for seismic design and nondestructive examination. NFPA 59A (2006) incorporates by reference the 1990 edition of API 620 but PHMSA proposes to incorporate by reference the most recent version, API 620 (2008).

American Petroleum Institute (API)

• ANSI/API Spec 5L/ISO 3183 Specification for Line Pipe (44th edition, 2007), Includes Errata and Addendum (2009)

Replaces IBR: API Specification 5L, “Specification for Line Pipe” (43rd edition and errata, 2004);

Referenced in 49 CFR 192.55(e); 192.113; Item I, Appendix B to part 192; 195.106(b)(1)(i); 195.106(e).

• API Spec 5LW API Recommended Practice 5LW, “Recommended Practice for ‘Transportation of Line Pipe on Barges and Marine Vessels’ ” (2nd edition, 1996)

Proposed to be IBR;

Proposed to be Referenced in 49 CFR 192.65(b); 195.207(b).

• API Spec 6D/ISO 14313 “Pipeline Valves” (23rd edition and errata 1, 2 and 3, (2009)

Replaces IBR: API Specification 6D “Pipeline Valves” (22nd edition, January 2002);

Referenced in 49 CFR 192.145(a); 195.116(d).

• ANSI/API 12F, Specification for Shop Welded Tanks for Storage of Production Liquids (11th edition errata, February 2007)

Replaces IBR: 11th edition, 1994;

Referenced in 49 CFR 195.132(b)(1); 195.205(b)(2); 195.264(b)(1); 195.264(e)(1); 195.307(a); 195.565; 195.579(d).

• ANSI/API 510, “Pressure Vessel Inspection Code: Maintenance Inspection, Rating, Repair, and Alteration,” (9th edition, June 2006)

Replaces IBR: 8th edition, 1997 including Addenda 1 through 4;

Referenced in 49 CFR 195.205(b)(3); 195.432(c).

•API 620, “Design and Construction of Large, Welded, Low-Pressure Storage Tanks” (11th edition, February 2008, Addendum 1, 2009)

Replaces IBR: 10th edition, 2002 including Addendum 1;

Referenced in 49 CFR 195.132(b)(2); 195.205(b)(2); 195.264(b)(1);195.264(e)(3); 195.307(b)

Reference added in 49 CFR 193.2101(b), 193.2321(b).

• API 650, “Welded Steel Tanks for Oil Storage,” (11th edition, June 2007, Addendum 1, 2008)

Replaces IBR: 10th edition, 1998 including Addenda 1-3;

Referenced in 49 CFR 195.132(b)(3); 195.205(b)(1); 195.264(b)(1); 195.264(e)(2); 195.307; 195.565; 195.579(d).

• ANSI/API Recommended Practice 651, “Cathodic Protection of Aboveground Petroleum Storage Tanks” (3rd edition, January 2007)

Replaces IBR: 2nd edition, December 1997;

Referenced in 49 CFR 195.565; 195.579(d).

• ANSI/API Recommended Practice 652, “Lining of Aboveground Petroleum Storage Tank Bottoms,” (3rd edition, October 2005)

Replaces IBR: 2nd edition, December 1997;

Referenced in 49 CFR 195.579(d).

• API 653, “Tank Inspection, Repair, Alteration, and Reconstruction,” (3rd edition, includes Addendum 1 (2003), Addendum 2 (2005), Addendum 3 (2008), and Errata (2008), April 2008)

Replaces IBR: 3rd edition, 2001 including Addendum 1, 2003;

Referenced in 49 CFR 195.205(b)(1); 195.432(b).

• API 1104, “Welding of Pipelines and Related Facilities,” (20th edition, Errata/Addendum, (2007) and Errata 2 (2008))

Replaces IBR: 19th edition, 1999, including Errata October 31, 2001;

Referenced in 49 CFR 192.225; 192.227(a); 192.229(c)(1); 192.241(c); Item II, Appendix B; 195.222; 195.228(b); 195.214(a).

• API 1130, “Computational Pipeline Monitoring for Liquid Pipelines” (1st edition, September 2007)

Replaces IBR: 2nd edition, 2002;

Referenced in 49 CFR 195.134; 195.444.

• API 2000, “Venting Atmospheric and Low-Pressure Storage Tanks” (5th edition, errata, November 1999)

Replaces IBR: 5th edition, April 1998;

Referenced in 49 CFR 195.264(e)(2); 195.264(e)(3).

• API Recommended Practice 2003, “Protection against Ignitions Arising Out of Static, Lightning, and Stray Currents,” (7th edition, January 2008)

Replaces IBR: 6th edition, 1998;

Referenced in 49 CFR 195.405(a).

• API 2026, “Safe Access/Egress Involving Floating Roofs of Storage Tanks in Petroleum Service,” (2nd edition, reaffirm, June 2006)

Replaces IBR: 2nd edition, 1998;

Referenced in 49 CFR 195.405(b).

• API Recommended Practice 2350 “Overfill Protection for Storage Tanks in Petroleum Facilities,” (3rd edition, January 2005)

Replaces IBR: 2nd edition, 1996;

Referenced in 49 CFR 195.428(c).

American Society of Civil Engineers (ASCE)

• ASCE/SEI 7-05, “Minimum Design Loads for Buildings and Other Structures” (2005 edition)

Replaces IBR: 2002 edition;

Referenced in 49 CFR 193.2067.

American Society for Testing and Materials (ASTM)

• ASTM A53/A53M-07 (2007), “Standard Specification for Pipe, Steel, Black and Hot-Dipped, Zinc-Coated, Welded and Seamless”

Replaces IBR: 2004 edition;

Referenced in 49 CFR 192.113; Item I, Appendix B to part 192; 195.106(e).

• ASTM A106/106M-08 (2008), “Standard Specification for Seamless Carbon Steel Pipe for High-Temperature Service”

Replaces IBR: 2004 edition;

Referenced in 49 CFR 192.113; Item I, Appendix B to part 192; 195.106(e).

• ASTM A372/A372M-03 (2008), “Standard Specification for Carbon and Alloy Steel Forgings for Thin-Walled Pressure Vessels”

Replaces IBR: 2003 edition;

Referenced in 49 CFR 192.177(b)(1).

• ASTM A381-96 (Reapproved 2005), “Standard Specification for Metal-Arc-Welded Steel Pipe for Use with High-Pressure Transmission Systems”

Replaces IBR: 1996 edition, reapproved 2001;

Referenced in 49 CFR 192.113; Item I, Appendix B to part 192; 195.106(e).

• ASTM A671-06 (2006), “Standard Specification for Electric-Fusion-Welded Steel Pipe for Atmospheric and Lower Temperatures”

Replaces IBR: 2004 edition;

Referenced in 49 CFR 192.113; Item I, Appendix B to part 192; 195.106(e).

• ASTM A672-08 (2008), “Standard Specification for Electric-Fusion-Welded Steel Pipe for High-Pressure Service at Moderate Temperatures”

Replaces IBR: 1996 edition, reapproved 2001;

Referenced in 49 CFR 192.113; Item I, Appendix B to part 192; 195.106(e).

• ASTM A691-98 (2007), “Standard Specification for Carbon and Alloy Steel Pipe, Electric-Fusion-Welded for High-Pressure Service at High Temperatures”

Replaces IBR: 1998 edition, reapproved 2002;

Referenced in 49 CFR 192.113; Item I, Appendix B to part 192; 195.106(e).

ASME International (ASME)

• ANSI/ASME B16.1-2005, Gray Iron Pipe Flanges and Flanged Fittings: Classes 25, 125, and 250 (August 2006)

Replaces IBR: ASME B16.1-1998 “Cast Iron Pipe Flanges and Flanged Fittings” 1998 edition;

Referenced in 49 CFR 192.147(c).

• ANSI/ASME B16.9-2007, “Factory-Made Wrought Steel Butt Welding Fittings” (December 2007)

Replaces IBR: 2003 edition (February 2004);

Referenced in 49 CFR 195.118(a).

• ANSI/ASME B31.4-2006 “Pipeline Transportation Systems for Liquid Hydrocarbons and Other Liquids” (October 2006)

Replaces IBR: 2002 edition (October 2002);

Referenced in 49 CFR 195.452(h)(4)(i).

• ANSI/ASME B31.8-2007 “Gas Transmission and Distribution Piping Systems” (November 2007)

Replaces IBR: 2003 edition (February 2004);

Referenced in 49 CFR 192.619(a)(1)(i); 195.5(a)(1)(i); 195.406(a)(1)(i).

• ASME Boiler and Pressure Vessel Code, Section I: Rules for Construction of Power Boilers 2007 (July 2007)

Replaces IBR: 2004 edition, including addenda through July 1, 2005;

Referenced in 49 CFR 192.153(a).

• ASME Boiler and Pressure Vessel Code, Section VIII, Division 1: Rules for Construction of Pressure Vessels 2007 (July 2007)

Replaces IBR: 2004 edition, including addenda through July 1, 2005;

Referenced in 49 CFR 192.153(b); 192.165(b)(3); 193.2321; 195.307(e).

• ASME Boiler and Pressure Vessel Code, Section VIII, Division 2: Alternative Rules 2007 (July 2007)

Replaces IBR: 2004 edition, including addenda through July 1, 2005;

Referenced in 49 CFR 192.153(b); 192.165(b)(3); 193.2321; 195.307(e).

• ASME Boiler and Pressure Vessel Code, Section IX: Welding and Brazing Qualifications 2007 (July 2007)

Replaces IBR: 2004 edition, including addenda through July 1, 2005;

Referenced in 49 CFR 192.227(a); Item II, Appendix B to part 192; 195.222.

Gas Technology Institute (GTI)

• GTI-04/0032 LNGFIRE3: A Thermal Radiation Model for LNG Fires (2004)

Replaces IBR: GRI-89/0176 “LNGFIRE: A Thermal Radiation Model for LNG Fires” (June 29, 1990);

Referenced in 49 CFR 193.2057.

Manufacturers Standardization Society of the Valve and Fittings Industry, Inc. (MSS)

• MSS SP-44-2006, “Steel Pipe Line Flanges” (January 2006)

Replaces IBR: 1996 edition, reaffirmed 2001;

Referenced in 49 CFR 192.147(a).

NACE International (NACE)

• NACE SP0169-2007, “Control of External Corrosion on Underground or Submerged Metallic Piping Systems”

Replaces IBR: NACE Standard RP0169-2002 “Control of External Corrosion on Underground or Submerged Metallic Piping Systems”;

Referenced in 49 CFR 195.571; 195.573.

• NACE SP0502-2008 Standard Practice—Pipeline External Corrosion Direct Assessment Methodology (Reaffirmed)

Replaces IBR: NACE Standard RP0502-2002 “Pipeline External Corrosion Direct Assessment Methodology”;

Referenced in 49 CFR 192.923(b)(1); 192.925(b) Introductory text; 192.925(b)(1); 192.925(b)(1)(ii); 192.925(b)(2) Introductory text; 192.925(b)(3) Introductory text; 192.925(b)(3)(ii); 192.925(b)(iv); 192.925(b)(4) Introductory text; 192.925(b)(4)(ii); 192.931(d); 192.935(b)(1)(iv); 192.939(a)(2); 195.588.

National Fire Protection Association (NFPA)

• NFPA 30 (2008), “Flammable and Combustible Liquids Code”

Replaces IBR: 2003 edition;

Referenced in 49 CFR 192.735(b); 195.264(b)(1).

• NFPA 59A (2006), “Standard for the Production, Storage, and Handling of Liquefied Natural Gas (LNG)

Partially Replaces IBR: 2001 edition;

Referenced in 49 CFR 193.2101(b); 193.2321(b).

• NFPA 70 (2008) “National Electrical Code”

Replaces IBR: 2005 edition;

Referenced in 49 CFR 192.163(e); 192.189(c).

Plastics Pipe Institute, Inc. (PPI)

• PPI TR-3/2008 (2008), “Policies and Procedures for Developing Hydrostatic Design Basis (HDB), Pressure Design Basis (PDB), Strength Design Basis (SDB), and Minimum Required Strength (MRS) Ratings for Thermoplastic Piping Materials or Pipe”

Replaces IBR: 2004 edition;

Referenced in 49 CFR 192.121.

On April 14, 2009 (74 FR 17099), PHMSA published a Direct Final Rule that incorporated by reference the 2007 editions of API Specification 5L “Specification for Line Pipe” and API 1104 “Welding of Pipelines and Related Facilities.” That rulemaking did not eliminate the use of the currently referenced standards but simply allowed the additional use of these new standards. In this NPRM PHMSA is proposing to eliminate the use of the previous editions of these standards.

V. Clarifications, Corrections and Edits

This document proposes to revise the pipeline safety regulations to make, non-substantive edits, update contact information, and provide clarification as specified in the following section-by-section summary:

Part 192

Section 192.11

PHMSA is proposing to revise paragraph (c) in § 192.11 to require that Part 192 prevails if there is a conflict between Part 192 and NFPA 58 or 59 for the reasons discussed above in “Updated Standards Not Incorporated by Reference.”

Section 192.711

• When the repair time conditions were implemented for Pipeline Integrity Management in High Consequence Areas (HCA), this section was not modified to clarify that the repair times for pipelines covered by § 192.711 pertained only to nonintegrity management repairs.

We are revising this section to make that clearer.

Gas Piping Technology Committee (GPTC) Petition

GPTC is an accredited American National Standards Institute (ANSI) standards committee that develops and publishes the “Guide for Gas Transmission and Distribution Piping Systems”, and assists natural gas pipeline operators to comply with Part 192. PHMSA's Office of Pipeline Safety (OPS) is represented on this committee. PHMSA proposes to make the following amendments in response to a GPTC petition:

Sections 192.145(d) and 192.145(e)

• Section 192.145 specifies the design and installation requirements for valves. GPTC petition 89-04 requests that OPS clarify the intent of § 192.145(d) and (e) regarding the design requirements for pressure containing parts of valves used in compressor stations. OPS has several interpretations, PI-75-057 and PI-71-014, stating that the plug or ball is not a pressure containing part. It is OPS's intent to permit the use of cast iron plugs or balls in combination with steel shell components.

We are proposing to revise paragraphs (d) and (e) to use the same language as ANSI/ASME B31.8, paragraph 831.11(c) in referring to shell components. Proposed revisions to paragraph (d) will clarify the elements of a “shell component.”

In response to GPTC's petition, we are also clarifying the materials allowed in certain valve components used in compressor stations. In paragraph (e), we are proposing to clarify that cast iron, malleable iron, or ductile iron may be used in the valve ball or plug. These materials may not be used in the pressure holding shell components (body, bonnet, cover, or end flange).

Section 192.3

• Section 192.3 defines terms used throughout Part 192. PHMSA proposes to move the definitions, “active corrosion”, “electrical survey” and “pipeline environment” from § 192.465(e) to § 192.3. This proposed revision will provide a broader applicability of these terms to Part 192 because these terms are also found in Part 192, Subparts I and O.

Section 192.557

GPTC petition 95-17 requests OPS revise § 192.557(c) to allow the use of a previous pressure test as a basis for increasing the maximum allowable operating pressure (MAOP) of a steel pipeline that will produce a hoop stress less than 30 percent of SMYS and of plastic, cast iron, and ductile iron pipelines.

Regulations in Subpart K do not require a new pressure test be conducted at the time of uprating unless the old pressure test cannot justify the uprated pressure. Section 192.555 addresses uprating higher stress steel pipelines and § 192.557 addresses lower stress steel pipelines and plastic, cast iron, and ductile iron pipelines. Section 192.555(c) explicitly allows the use of a previous pressure test as the basis for establishing a higher MAOP. Since in § 192.555(c), we allow a previous pressure test at the higher level hoop stress, we intended to allow it at a lower hoop stress in steel pipelines and in plastic, cast iron, and ductile iron pipelines.

The confusion is with the requirement of § 192.553(d), which states that, “* * * a new maximum allowable operating pressure established under this subpart may not exceed the maximum that would be allowed under this part for a new segment of pipeline constructed of the same materials in the same location”. Only the derating for class location as specified in § 192.619 is a requirement of section § 192.553(d) for pipelines being uprated under § 192.555(c). The intent is not to preclude the use of a previous pressure test as a basis for uprating. This requirement would also apply to steel pipelines of lower hoop stress and to plastic, cast iron, and ductile iron pipelines when the basis of uprating is a previous pressure test. PHMSA proposes to clarify requirements for MAOP uprating in § 192.557(c) by including the location factor requirements in § 192.619(a)(2).

Part 193

Section 193.2101

PHMSA is proposing to revise this regulation to incorporate by reference sections from the 2006 edition of NFPA59A pertaining to the seismic design of stationary LNG storage tanks. Other sections from the 2001 edition of NFPA 59A would continue to be incorporated by reference as designated in 193.2013. NFPA 59A (2006) incorporates by reference the 1990 edition of API 620 but PHMSA proposes to incorporate by reference the most recent version, API 620 (2008), for seismic design.

Section 193.2321

PHMSA is proposing to clarify the language in § 193.2321(a) and to use the broader terminology for non-destructive testing. PHMSA also proposes to revise 193.2321(b) to add new requirements in accordance with NFPA 59A's 2006 edition for the ultrasonic examination of LNG tank welds for storage tanks with an internal design pressure at or below 15 psig.

Part 195

Section 195.307

• PHMSA is proposing to revise paragraph (c) to reflect revised section numbering regarding pneumatic testing from 5.3 to 5.2 of API Standard 650.

Section 195.401

• When the repair time conditions were implemented for Pipeline Integrity Management in High Consequence Areas (HCA), this section was not modified to clarify that the repair times for pipelines covered by § 195.452 (pipelines that could affect an HCA) had to comply with the integrity management repair requirements in § 195.452(h). The requirement to repair a condition within a reasonable time period (unless an immediate hazard) applies to conditions on pipelines not covered by § 195.452.

We are revising this section to make those requirements clearer.

Section 195.432

PHMSA is proposing to revise paragraph (b) to eliminate the reference to section 4 in API Standard 653. All sections in API Standard 653 relating to inspection of in-service atmospheric and low-pressure steel aboveground breakout tanks are incorporated by reference.

Section 195.452

• PHMSA is proposing to revise paragraph (h)(4)(i) to reflect new section numbering as specified in the updated ANSI/ASME B31.4. The referenced section would be changed from “451.7” to “451.6.2.2 (b)”.

VI. Rulemaking Analyses and Notices

Statutory/Legal Authority for This Rulemaking

This proposed rulemaking is published under the authority of the Federal Pipeline Safety Law (49 U.S.C. 60101). Section 60102 authorizes the Secretary of Transportation to issue regulations governing design, installation, inspection, emergency plans and procedures, testing, construction, extension, operation, replacement, and maintenance of pipeline facilities. Section 60102(l) of the Federal Pipeline Safety Law states that the Secretary shall, to the extent appropriate and practicable, update incorporated industry standards that have been adopted as part of the Federal pipeline safety regulations.

Privacy Act Statement

Anyone may search the electronic form of comments received in response to any of our dockets by the name of the individual submitting the comment (or signing the comment if submitted for an association, business, labor union,). You may review DOT's complete Privacy Act Statement in the Federal Register published on April 11, 2000 (65 FR 19477) or you may visit http://docketsinfo.dot.gov/.

Executive Order 13132

PHMSA has analyzed the proposed rulemaking according to the principles and criteria in Executive Order 13132 (“Federalism”). The proposed rule would not have a substantial direct effect on the States, the relationship between the national government and the States, or the distribution of power and responsibilities among the various levels of government. The proposed rule would not impose substantial direct compliance costs on State and local governments. This proposed regulation would not preempt state law for intrastate pipelines. Therefore, the consultation and funding requirements of Executive Order 13132 would not apply.

Executive Order 12866—Regulatory Planning and Review and DOT Regulatory Policies and Procedures

This proposed rule is not a significant regulatory action under section 3(f) of Executive Order 12866 (58 FR 51735) and, therefore, would not be subject to review by the Office of Management and Budget. This proposed rule is not significant under the Regulatory Policies and Procedures of the Department of Transportation (44 FR 11034).

In this proposed rule we are updating references to standards that are incorporated in the pipeline safety regulations. These updates will enhance safety while reducing the compliance burden on the regulated industry. We are also clarifying language in some of the provisions to better reflect the intent of those regulations. Industry standards developed and adopted by consensus generally are accepted and followed by the industry; thus, their incorporation by reference in the Pipeline Safety Regulations assures that the industry is not forced to comply with a different set of standards to accomplish the same safety goal. In addition, several amendments proposed for adoption provide regulatory relief through compliance with certain nationally and internationally recognized standards such as the American Society of Mechanical Engineers (ASME) Boiler and Pressure Vessel Code and standards published by the ASTM International (ASTM) and the American Petroleum Institute (API). Requiring regulatory compliance with standards such as the ASME, ASTM and API takes advantage of established and well-defined and proven practices. Because we are proposing to adopt industry consensus standards we expect compliance costs associated with this proposal will be minimal.

Overall this proposed rule is intended to enhance transportation safety and reduce the overall compliance burden on the regulated industry. We invite public comment on any impacts of these proposed amendments

Executive Order 13175

PHMSA has analyzed this proposed rulemaking according to Executive Order 13175 (“Consultation and Coordination with Indian Tribal Governments”). Because this proposed rulemaking would not significantly or uniquely affect the communities of the Indian tribal governments or impose substantial direct compliance costs, the funding and consultation requirements of Executive Order 13175 would not apply.

Regulatory Flexibility Act

Under the Regulatory Flexibility Act (5 U.S.C. 601), PHMSA must consider whether rulemaking actions would have a significant economic impact on a substantial number of small entities. This proposed rule would ensure that pipeline operators are using the most current editions of technical standards incorporated by reference. The proposed rule would also improve the clarity of several regulations. PHMSA believes that this proposed rulemaking would impact a substantial number of small entities but that this impact will be negligible. Based on the facts available about the expected impact of this rulemaking, I certify, under Section 605 of the Regulatory Flexibility Act (5 U.S.C. 605) that this proposed rulemaking will not have a significant economic impact on a substantial number of small entities. PHMSA invites public comments on this certification.

Unfunded Mandates Reform Act of 1995

This proposed rule would not impose unfunded mandates under the Unfunded Mandates Reform Act of 1995. It would not result in costs of $100 million (adjusted for inflation currently estimated to be $141 million) or more in any one year to either State, local, or tribal governments, in the aggregate, or to the private sector, and would be the least burdensome alternative that achieves the objective of the proposed rulemaking.

Paperwork Reduction Act

This proposed rule would not impose any new information collection requirements.

National Environmental Policy Act

The National Environmental Policy Act (42 U.S.C. 4321-4375) requires that Federal agencies analyze proposed actions to determine whether the action will have a significant impact on the human environment. The Counsel on Environmental Quality (CEQ) regulations order Federal agencies to conduct an environmental review considering (1) the need for the proposed action (2) alternatives to the proposed action (3) probable environmental impacts of the proposed action and alternatives and (4) the agencies and persons consulted during the consideration process. 40 CFR 1508.9(b).

1. Purpose and Need

PHMSA is proposing to incorporate by reference (IBR) into the pipeline safety regulations all or parts of new editions of voluntary consensus standards to allow pipeline operators to use current technology, new materials, and other industry and management practices. PHMSA also proposes to make non substantive edits and clarify regulatory language in certain provisions. These proposed amendments to the pipeline safety regulations would not require pipeline operators to undertake any significant new pipeline safety initiatives.

2. Alternatives

In developing the proposed rule, we considered two alternatives:

(1) Do nothing.

(2) Propose revisions to the Pipeline Safety Regulations to incorporate the newest editions of voluntary consensus standards to allow pipeline operators to use current technologies.

Alternative 1

Because our goal is to facilitate uniformity, compliance, commerce and safety in the transportation of hazardous liquids and gases by pipeline, we rejected this alternative.

Alternative 2

Many of the industry standards currently incorporated by reference have been revised and updated to incorporate new technology and methodology. Most of the amendments would allow for alternative means of compliance while still ensuring safety, clarify regulatory requirements, and make the regulatory provisions more consistent—all in furtherance of the safe transportation of hazardous materials by pipeline.

3. Analysis of Environmental Impacts

The Nation's pipelines are located throughout the United States, onshore and offshore, and traverse a variety of environments—from highly populated urban sites to remote, unpopulated rural areas.¹ . The pipeline infrastructure is a network of over 2 million miles of pipeline that moves millions of gallons of hazardous liquids and over 55 billion cubic feet of natural gas daily.² The biggest source of energy is petroleum, including oil and natural gas. Together, they supply 65 percent of the energy in the United States.³

¹ PHMSA, Pipeline Basics, http://primis.phmsa.dot.gov/comm/PipelineBasics.htm.

² GAO/RCED-00-128, “The Office of Pipeline Safety is Changing How it Oversees the Pipeline Industry.”

³ PHMSA. Pipeline Safety Q&As.

The physical environment potentially affected by the proposed rule includes the airspace, water resources (e.g., oceans, streams, lakes), cultural and historical resources (e.g., properties listed on the National Register of Historic Places), biological and ecological resources (e.g., coastal zones, wetlands, plant and animal species and their habitat, forests, grasslands, offshore marine ecosystems), and special ecological resources (e.g., threatened and endangered plant and animal species and their habitat, national and State parklands, biological reserves, wild and scenic rivers) that exist directly adjacent to and within the vicinity of pipelines.

Because the pipelines subject to the rule contain hazardous materials, resources within the physically affected environment, as well as public health and safety, may be affected by gas pipeline incidents such as spills and leaks. Incidents on pipelines can result in fires and explosions, with resulting damage to the local environment. In addition, since pipelines often contain gas streams laden with condensates and natural gas liquids (NGL's), failures also result in spills of these liquids, which can cause environmental harm. Depending on the size of a spill or gas leak, and the nature of the impact zone, the environmental impacts could vary from property damage and environmental damage to injuries or, on rare occasions, fatalities.

Updating the references to industry standards enhances safety and environmental protection by recognizing the use of new technologies. Thus it is possible that, on a national scale, the cumulative environmental damage from pipelines is reduced, or at a minimum unchanged.

Neither the “do nothing” alternative or the action alternative would result in any significant impacts on the environment.

4. Consultations

Various industry associations and State regulatory agencies were consulted in the development of this proposed rulemaking

5. Decision About the Degree of Environmental Impact

PHMSA has preliminarily determined that the selected alternative would not have a significant impact on the human environment. PHMSA welcomes comment on any of these conclusions.

Executive Order 13211

Transporting gas affects the nation's available energy supply. However, this proposed rulemaking would not be a “significant” energy action under Executive Order 13211. It also would not be a significant regulatory action under Executive Order 12866 and would not be likely to have a significant adverse effect on the supply, distribution, or use of energy. Further, the Administrator of the Office of Information and Regulatory Affairs would not be likely to identify this proposed rule as a significant energy action.

Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 192

Incorporation by reference, Natural gas, Pipeline safety.

49 CFR Part 193

Incorporation by reference, Liquefied natural gas, Pipeline safety.

49 CFR Part 195

Anhydrous ammonia, Carbon dioxide, Incorporation by reference, Petroleum pipeline safety.

In consideration of the foregoing, PHMSA proposes to amend 49 CFR Parts 192, 193, and 195 as follows:

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, 60116, 60118 and 60137; and 49 CFR 1.53.

2. In § 192.3, add the following definitions for “Active corrosion”, “Electrical survey”, and “Pipeline environment” in appropriate alphabetical order as follows:

§ 192.3 Definitions.

* * * * *

Active corrosion means continuing corrosion that, unless controlled, could result in a condition that is detrimental to public safety.

* * * * *

Electrical survey means a series of closely spaced pipe-to-soil readings over a pipeline which are subsequently analyzed to identify locations where a corrosive current is leaving the pipeline.

* * * * *

Pipeline environment includes soil resistivity (high or low), soil moisture (wet or dry), soil contaminants that may promote corrosive activity, and other known conditions that could affect the probability of active corrosion.

* * * * *

3. In § 192.7, revise paragraph (c)(2) to read as follows:

§ 192.7 What documents are incorporated by reference partly or wholly in this part?

* * * * *

(c) * * *

(2) Documents incorporated by reference.

Source and name of referenced material | 49 CFR reference
A. Pipeline Research Council International (PRCI):
(1) AGA Pipeline Research Committee, Project PR-3-805, “A Modified Criterion for Evaluating the Remaining Strength of Corroded Pipe,” (December 22, 1989). The RSTRENG program may be used for calculating remaining strength | §§ 192.933(a)(1); 192.933(d)(1)(i); 192.485(c).
B. American Petroleum Institute (API):
(1) ANSI/API Specification 5L/ISO 3183, “Specification for Line Pipe” (44th edition, 2007), Includes Errata and Addendum (2009) | §§ 192.55(e); 192.113; Item I of Appendix B.
(2) API Recommended Practice 5L1, “Recommended Practice for Railroad Transportation of Line Pipe” (6th edition, 2002) | § 192.65(a).
(3) API Recommended Practice 5LW, “Recommended Practice for “Transportation of Line Pipe on Barges and Marine Vessels” (2nd edition, 1996) | § 192.65(b).
(4) API Specification 6D/ISO 14313, “Pipeline Valves” (23rd edition and errata 1, 2 and 3, (2009) | § 192.145(a)
(5) API Recommended Practice 80, “Guidelines for the Definition of Onshore Gas Gathering Lines,” (1st edition, April 2000) | §§ 192.8(a); 192.8(a)(1); 192.8(a)(2); 192.8(a)(3); 192.8(a)(4).192.8(a); 192.8(a)(1); 192.8(a)(2); 192.8(a)(3); 192.8(a)(4).
(6) API 1104, “Welding of Pipelines and Related Facilities” (20th edition, Errata/Addendum, (2007) and Errata 2 (2008)) | §§ 192.225; 192.227(a); 192.229(c)(1); 192.241(c); Item II, Appendix B.
(7) API Recommended Practice 1162, “Public Awareness Programs for Pipeline Operators” (1st edition, December 2003) | §§ 192.616(a); 192.616(b); 192.616(c).
C. American Society for Testing and Materials (ASTM):
(1) ASTM A53/A53M-07, (2007), “Standard Specification for Pipe, Steel, Black and Hot-Dipped, Zinc-Coated, Welded and Seamless.” | §§ 192.113; Item I, Appendix B.
(2) ASTM A106/A106M-08, (2008), “Standard Specification for Seamless Carbon Steel Pipe for High-Temperature Service” | §§ 192.113; Item I, Appendix B.
(3) ASTM A333/A333M-05 (2005) “Standard Specification for Seamless and Welded Steel Pipe for Low-Temperature Service” | §§ 192.113; Item I, Appendix B.
(4) ASTM A372/A372M-03 (2008), “Standard Specification for Carbon and Alloy Steel Forgings for Thin-Walled Pressure Vessels” | § 192.177(b)(1).
(5) ASTM A381-96 (Reapproved 2005), “Standard Specification for Metal-Arc Welded Steel Pipe for Use With High-Pressure Transmission Systems” | §§ 192.113; Item I, Appendix B.
(6) ASTM A671-06, (2006), “Standard Specification for Electric-Fusion-Welded Steel Pipe for Atmospheric and Lower Temperatures” | §§ 192.113; Item I, Appendix B.
(7) ASTM A672-08, (2008), “Standard Specification for Electric-Fusion-Welded Steel Pipe for High-Pressure Service at Moderate Temperatures” | §§ 192.113; Item I, Appendix B.
(8) ASTM A691-98 (Reapproved 2007), “Standard Specification for Carbon and Alloy Steel Pipe, Electric-Fusion-Welded for High-Pressure Service at High Temperatures” | §§ 192.113; Item I, Appendix B.
(9) ASTM D638-03, “Standard Test Method for Tensile Properties of Plastics” | §§ 192.283(a)(3); 192.283(b)(1).
(10) ASTM D2513-87, “Standard Specification for Thermoplastic Gas Pressure Pipe, Tubing, and Fittings” | § 192.63(a)(1).
(11) ASTM D2513-99, “Standard Specification for Thermoplastic Gas Pressure Pipe, Tubing, and Fittings” | §§ 192.191(b); 192.281(b)(2); 192.283(a)(1)(i); Item 1, Appendix B.
(12) ASTM D2517-00, “Standard Specification for Reinforced Epoxy Resin Gas Pressure Pipe and Fittings” | §§ 192.191(a); 192.281(d)(1); 192.283(a)(1)(ii); Item I, Appendix B.
(13) ASTM F1055-1998, “Standard Specification for Electrofusion type Polyethylene Fittings for Outside Diameter Controller Polyethylene Pipe and Tubing” | § 192.283(a)(1)(iii).
D. ASME International (ASME):
(1) ANSI/ASME B16.1-2005, Gray Iron Pipe Flanges and Flanged Fittings: Classes 25, 125, and 250 | § 192.147(c).
(2) ANSI/ASME B16.5-2003, “Pipe Flanges and Flanged Fittings 1998” | §§ 192.147(a); 192.279.
(3) ANSI/ASME B31G-1991 (Reaffirmed; 2004), “Manual for Determining the Remaining Strength of Corroded Pipelines” | §§ 192.485(c); 192.933(a).
(4) ANSI/ASME B31.8-2007, (November 2007), “Gas Transmission and Distribution Piping Systems” | § 192.619(a)(1)(i).
(5) ANSI/ASME B31.8S-2004, “Supplement to B31.8 on Managing System Integrity of Gas Pipelines” | §§ 192.903(c); 192.907(b); 192.911, Introductory text; 192.911(i); 192.911(k); 192.911(l); 192.911(m); 192.913(a) Introductory text; 192.913(b)(1); 192.917(a) Introductory text; 192.917(b); 192.917(c); 192.917(e)(1); 192.917(e)(4); 192.921(a)(1); 192.923(b)(1); 192.923(b)(2); 192.923(b)(3); 192.925(b) Introductory text; 102.925(b)(1); 192.925(b)(2); 192.925(b)(3); 192.925(b)(4); 192.927(b); 192.927(c)(1)(i); 192.929(b)(1); 192.929(b)(2); 192.933(a); 192.933(d)(1); 192.933(d)(1)(i); 192.935(a); 192.935(b)(1)(iv); 192.937(c)(1); 192.939(a)(1)(i); 192.939(a)(1)(ii); 192.939(a)(3); 192.945(a).
(6) ASME Boiler and Pressure Vessel Code, Section I, “Rules for Construction of Power Boilers” (2007 edition) | § 192.153(b).
(7) ASME Boiler and Pressure Vessel Code, Section VIII, Division 1, “Rules for Construction of Pressure Vessels” (2007 edition) | §§ 192.153(a); 192.153(b); 192.153(d); 192.165(b)(3).
(8) ASME Boiler and Pressure Vessel Code, Section VIII, Division 2, “Rules for Construction of Pressure Vessels” (2007 edition) | §§ 192.153(b); 192.165(b)(3).
(9) ASME Boiler and Pressure Vessel Code, Section IX, “Welding and Brazing Qualifications” (2007 edition) | §§ 192.227(a); Item II, Appendix B.
E. Manufacturers Standardization Society of the Valve and Fittings Industry, Inc. (MSS):
(1) MSS SP-44-2006 “Steel Pipe Line Flanges” | § 192.147(a).
(2) [Reserved] |
F. National Fire Protection Association (NFPA):
(1) NFPA 30 (2008), “Flammable and Combustible Liquids Code” | § 192.735(b).
(2) NFPA 58 (2004), “Liquefied Petroleum Gas Code (LP-Gas Code)” | §§ 192.11(a); 192.11(b); 192.11(c).
(3) NFPA 59 (2004), “Utility LP-Gas Plant Code” | §§ 192.11(a); 192.11(b); 192.11(c).
(4) NFPA 70 (2008), “National Electrical Code” | §§ 192.163(e); 192.189(c).
G. Plastics Pipe Institute, Inc. (PPI):
(1) PPI TR-3/2008 (2008), “Policies and Procedures for Developing Hydrostatic Design Basis (HDB), Pressure Design Basis (PDB), Strength Design Basis (SDB), and Minimum Required Strength (MRS) Ratings for Thermoplastic Piping Materials or Pipe” | § 192.121.
H. NACE International (NACE):
(1) NACE Standard SP0502-2008, “Pipeline External Corrosion Direct Assessment Methodology” | §§ 192.923(b)(1); 192.925(b) Introductory text; 192.925(b)(1); 192.925(b)(1)(ii); 192.925(b)(2) Introductory text; 192.925(b)(3) Introductory text; 192.925(b)(3)(ii); 192.925(b)(iv); 192.925(b)(4) Introductory text; 192.925(b)(4)(ii); 192.931(d); 192.935(b)(1)(iv); 192.939(a)(2).
I. Gas Technology Institute (GTI):
(1) GRI 02/0057 (2002), “Internal Corrosion Direct Assessment of Gas Transmission Pipelines Methodology” | § 192.927(c)(2).

4. In § 192.11, revise paragraph (c) to read as follows:

§ 192.11 Petroleum gas systems.

* * * * *

(c) If there is a conflict between this part and NFPA 58 or NFPA 59, this part prevails.

5. Section 192.65 is revised to read as follows:

§ 192.65 Transportation of pipe.

(a) Railroad. In a pipeline to be operated at a hoop stress of 20 percent or more of SMYS, an operator may not use pipe having an outer diameter to wall thickness ratio of 70 to 1, or more, that is transported by railroad unless:

(1) The transportation is performed in accordance with API RP 5L1 (incorporated by reference, see § 192.3).

(2) In the case of pipe transported before November 12, 1970, the pipe is tested in accordance with Subpart J of this part to at least 1.25 times the maximum allowable operating pressure if it is to be installed in a class 1 location and to at least 1.5 times the maximum allowable operating pressure if it is to be installed in a class 2, 3, or 4 location. Notwithstanding any shorter time period permitted under Subpart J of this part, the test pressure must be maintained for at least 8 hours.

(b) Ship or barge. In a pipeline to be operated at a hoop stress of 20 percent or more of SMYS, an operator may not use pipe having an outer diameter to wall thickness ratio of 70 to 1, or more, that is transported by ship or barge on both inland and marine waterways unless the transportation is performed in accordance with API RP 5LW.

§ 192.121 [Amended]

6. In § 192.121, under “S=”, remove the term “PPI TR-3/2004” and add, in its place, the term “PPI TR-3/2008”.

7. In § 192.145, revise the first sentence in paragraph (d) introductory text and paragraph (e) to read as follows:

§ 192.145 Valves.

* * * * *

(d) No valve having shell (body, bonnet, cover, and/or end flange) components made of ductile iron may be used at pressures exceeding 80 percent of the pressure ratings for comparable steel valves at their listed temperature. * * *

* * * * *

(e) No valve having shell (body, bonnet, cover, and/or end flange) components made of cast iron, malleable iron, or ductile iron may be used in the gas pipe components of compressor stations.

8. In § 192.465, revise paragraph (e) to read as follows:

§ 192.465 External corrosion control: Monitoring.

* * * * *

(e) After the initial evaluation required by §§ 192.455(b) and (c) and 192.457(b), each operator must, not less than every 3 years at intervals not exceeding 39 months, reevaluate its unprotected pipelines and cathodically protect them in accordance with this subpart in areas in which active corrosion is found. The operator must determine the areas of active corrosion by electrical survey. However, on distribution lines and where an electrical survey is impractical on transmission lines, areas of active corrosion may be determined by other means that include review and analysis of leak repair and inspection records, corrosion monitoring records, exposed pipe inspection records, and the pipeline environment.

9. In § 192.557, revise paragraph (c) to read as follows:

§ 192.557 Uprating: Steel pipelines to a pressure that will produce a hoop stress less than 30 percent of SMYS: plastic, cast iron, and ductile iron pipelines.

* * * * *

(c) Notwithstanding the requirements of § 192.619(a)(2), and after complying with paragraph (b) of this section, the increase in maximum allowable operating pressure (MAOP) must be made in increments that are equal to 10 psig (69 kPa) or 25 percent of the total pressure increase, whichever produces the fewer number of increments. Whenever the requirements of paragraph (b)(6) of this section apply, there must be at least two approximately equal incremental increases.

* * * * *

10. Section 192.711 is revised to read as follows:

§ 192.711 Transmission lines: General requirements for repair procedures.

(a) Temporary repairs. Each operator must take immediate temporary measures to protect the public whenever:

(1) A leak, imperfection, or damage that impairs its serviceability is found in a segment of steel transmission line operating at or above 40 percent of the SMYS; and

(2) It is not feasible to make a permanent repair at the time of discovery.

(b) Permanent repairs. An operator must make permanent repairs on its pipeline system according to the following:

(1) Non integrity management repairs: The operator must make permanent repairs as soon as feasible.

(2) Integrity management repairs: When an operator discovers a condition on a pipeline covered under Subpart O-Gas Transmission Pipeline Integrity Management, the operator must remediate the condition as prescribed by § 192.933(d).

(c) Welded patch. Except as provided in § 192.717(b)(3), no operator may use a welded patch as a means of repair.

§§ 192.923, 192.925, 192.931, 192.935, and 192.939 [Amended]

11. In 49 CFR part 192 remove the terms “NACE RP0502-2002” or “NACE RP 0502-2002”and add, in their place, the terms “NACE SP0502-2008” in the following places:

a. Section 192.923(b)(1);

b. Section 192.925(b) Introductory text, (b)(1), (b)(1)(ii), (b)(2) Introductory text, (b)(3) Introductory text, (b)(3)(ii), (b)(iv), (b)(4) Introductory text, (b)(4)(ii);

c. Section 192.931(d);

d. Section 192.935(b)(1)(iv); and

e. Section 192.939(a)(2).

PART 193—LIQUEFIED NATURAL GAS FACILITIES: FEDERAL SAFETY STANDARDS

12. The authority citation for part 193 continues to read as follows:

Authority: 49 U.S.C. 5103, 60102, 60103, 60104, 60108, 60109, 60110, 60113, 60118; and 49 CFR 1.53.

13. In § 193.2013, revise paragraph (c), to read as follows:

§ 193.2013 Incorporation by reference.

* * * * *

(c) Documents incorporated by reference.

Source and name of referenced material | 49 CFR reference
A. American Gas Association (AGA):
(1) “Purging Principles and Practices” (3rd edition, 2001) | §§ 193.2513; 193.2517; 193.2615.
B. American Petroleum Institute (API):
(1) API 620 (2008), “Design and Construction of Large, Welded, Low-Pressure Storage Tanks” (11th edition, 2008) | §§ 193.2101(b); 193.2321(b).
C. American Society of Civil Engineers (ASCE):
(1) ASCE/SEI 7-05, “Minimum Design Loads for Buildings and Other Structures” (2005 edition) | § 193.2067.
D. ASME International (ASME):
(1) ASME Boiler and Pressure Vessel Code, Section VIII, Division 1, “Rules for Construction of Pressure Vessels” (2007 edition) | §§ 193.2321; 193.2321.
E. Gas Technology Institute (GTI) formerly the Gas Research Institute (GRI):
(1) GTI-04/0032, “LNGFIRE: A Thermal Radiation Model for LNG Fires” | § 193.2057(a).
(2) GTI-04/0049, “LNG Vapor Dispersion Prediction with the DEGADIS Dense Gas Dispersion Model” (April 2004) | § 193.2059.
(3) GRI-96/0396.5, “Evaluation of Mitigation Methods for Accidental LNG Releases, Volume 5: Using FEM3A for LNG Accident Consequence Analyses” (April 1997) | § 193.2059.
F. National Fire Protection Association (NFPA):
(1) NFPA 59A, “Standard for the Production, Storage, and Handling of Liquefied Natural Gas (LNG)” (2001 edition) | §§ 193.2019; 193.2051; 193.2057; 193.2059; 193.2101(a); 193.2301; 193.2303; 193.2401; 193.2521; 193.2639; 193.2801.
(2) NFPA 59A, “Standard for the Production, Storage, and Handling of Liquefied Natural Gas (LNG)” (2006 edition) | §§ 193.2101(b); 193.2321(b).

14. In § 193.2057, revise paragraph (a) to read as follows:

§ 193.2057 Thermal radiation protection.

* * * * *

(a) The thermal radiation distances must be calculated using Gas Technology Institute's (GTI) report or computer model GTI-04/0032 LNGFIRE3: A Thermal Radiation Model for LNG Fires (incorporated by reference, see § 193.2013). The use of other alternate models which take into account the same physical factors and have been validated by experimental test data may be permitted subject to the Administrator's approval.

* * * * *

15. In § 193.2067, revise paragraph (b)(1) to read as follows:

§ 193.2067 Wind forces.

* * * * *

(b) * * *

(1) For shop fabricated containers of LNG or other hazardous fluids with a capacity of not more than 70,000 gallons, applicable wind load data in ASCE/SEI 7-05 (incorporated by reference, see § 193.2013).

* * * * *

16. Section 193.2101 is revised to read as follows:

§ 193.2101 Scope.

(a) Each LNG facility designed after March 31, 2000 must comply with requirements of this part and of NFPA 59A (2001) (incorporated by reference, see § 193.2013). If there is a conflict between this part and NFPA 59A, this part prevails. Unless otherwise specified, all references to NFPA 59A in this part are to the 2001 edition.

(b) Stationary LNG storage tanks must comply with section 7.2.2 of NFPA 59A (2006) (incorporated by reference, see § 193.2013) for seismic design of field fabricated tanks. All other LNG storage tanks must comply with API 620 (2008) (incorporated by reference, see § 193.2013) for seismic design.

17. Section 193.2321 is revised to read as follows:

§ 193.2321 Nondestructive tests.

(a) The butt welds in metal shells of storage tanks with internal design pressure above 15 psig must be non-destructively examined in accordance with the ASME Boiler and Pressure Vessel Code (Section VIII Division 1) (incorporated by reference, see § 193.2013), except that 100 percent of welds that are both longitudinal (or meridional) and circumferential (or latitudinal) of hydraulic load bearing shells with curved surfaces that are subject to cryogenic temperatures must be non-destructively examined in accordance with the ASME Boiler and Pressure Vessel Code (Section VIII Division 1).

(b) For storage tanks with internal design pressures at 15 psig or less, ultrasonic examinations of welds on metal containers must comply with the following:

(1) Section 7.3.1.2 of NFPA 59A (2006) (incorporated by reference, see § 193.2013);

(2) Appendices Q and C of API 620 (2008) (incorporated by reference, see § 193.2013);

(c) Ultrasonic examination records must be retained for the life of the facility. If electronic records are kept, they must be retained in a manner so that they cannot be altered by any means; and

(d) The ultrasonic equipment used in the examination of welds must be calibrated at a frequency no longer than eight hours. Such calibrations must verify the examination of welds against a calibration standard. If the ultrasonic equipment is found to be out of calibration, all previous weld inspections that are suspect must be reexamined.

PART 195—TRANSPORTATION OF HAZARDOUS LIQUIDS BY PIPELINE

18. The authority citation for part 195 continues to read as follows:

Authority: 49 U.S.C. 5103, 60102, 60104, 60108, 60109, 60116, 60118 and 60137; and 49 CFR 1.53.

19. In § 195.3, revise paragraph (c) to read as follows:

§ 195.3 Incorporation by reference.

* * * * *

(c) The full titles of publications incorporated by reference wholly or partially in this part are as follows. Numbers in parentheses indicate applicable editions:

Source and name of referenced material | 49 CFR reference
A. Pipeline Research Council International, Inc. (PRCI):
(1) AGA Pipeline Research Committee, Project PR-3-805, “A Modified Criterion for Evaluating the Remaining Strength of Corroded Pipe,” (December 22, 1989). The RSTRENG program may be used for calculating remaining strength | §§ 195.452(h)(4)(i)(B); 195.452(h)(4)(iii)(D); 195.587.
B. American Petroleum Institute (API):
(1) ANSI/API Specification 5L/ISO 3183, “Specification for Line Pipe” (44th edition, 2007), Includes Errata and Addendum (2009) | §§ 195.106(b)(1)(i); 195.106(e).
(2) API Recommended Practice 5L1, “Recommended Practice for Railroad Transportation of Line Pipe” (6th edition, 2002) | § 195.207.
(3) API Recommended Practice 5LW, “Recommended Practice for “Transportation of Line Pipe on Barges and Marine Vessels” (2nd edition, 1996) | § 195.207.
(4) API Specification 6D/ISO 14313, “Pipeline Valves” (23rd edition and errata 1, 2, and 3,(2009) | § 195.116(d).
(5) ANSI/API 12F, Errata for “Specification for Shop Welded Tanks for Storage of Production Liquids” (12th edition, 2007) | §§ 195.132(b)(1); 195.205(b)(2); 195.264(b)(1); 195.264(e)(1); 195.307(a); 195.565; 195.579(d).
(6) ANSI/API 510, “Pressure Vessel Inspection Code: Maintenance Inspection, Rating, Repair, and Alteration” (9th edition, 2006) | §§ 195.205(b)(3); 195.432(c).
(7) API 620, “Design and Construction of Large, Welded, Low-Pressure Storage Tanks” (11th edition, 2008, Addendum 1, 2009) | §§ 195.132(b)(2); 195.205(b)(2); 195.264(b)(1); 195.264(e)(3); 195.307(b).
(8) API 650, “Welded Steel Tanks for Oil Storage” (11th edition, 2007, Addendum, 2008) | §§ 195.132(b)(3); 195.205(b)(1); 195.264(b)(1); 195.264(e)(2); 195.307(c); 195.307(d); 195.565; 195.579(d).
(9) ANSI/API Recommended Practice 651, “Cathodic Protection of Aboveground Petroleum Storage Tanks” (3rd edition, January 2007) | §§ 195.565; 195.579(d).
(10) ANSI/API Recommended Practice 652, “Lining of Aboveground Petroleum Storage Tank Bottoms” (3rd edition, October 2005) | § 195.579(d).
(11) API 653, “Tank Inspection, Repair, Alteration, and Reconstruction” (3rd edition Third Edition, Includes Addendum 1 (2003), Addendum 2 (2005), Addendum 3 (2008), and Errata (2008), April 2008) | §§ 195.205(b)(1); 195.432(b).
(12) API 1104, “Welding of Pipelines and Related Facilities” (20th edition, Errata/Addendum, (2007) and Errata 2 (2008)) | §§ 195.222; 195.228(b); 195.214(a).
(13) API 1130, “Computational Pipeline Monitoring for Liquid Pipelines” (1st edition, 2007) | §§ 195.134; 195.444.
(14) API 2000, “Venting Atmospheric and Low-Pressure Storage Tanks” (5th edition, errata, Nov. 1999) | §§ 195.264(e)(2); 195.264(e)(3).
(15) API Recommended Practice 2003, “Protection Against Ignitions Arising Out of Static, Lightning, and Stray Currents” (7th edition, 2008) | § 195.405(a).
(16) API 2026, “Safe Access/Egress Involving Floating Roofs of Storage Tanks in Petroleum Service” (2nd edition with reaf, 2006) | § 195.405(b).
(17) API Recommended Practice 2350, “Overfill Protection for Storage Tanks In Petroleum Facilities'” (3rd edition, 2005) | § 195.428(c).
(18) API 2510, “Design and Construction of LPG Installations” (8th edition, 2001) | §§ 195.132(b)(3); 195.205(b)(3); 195.264(b)(2); 195.264(e)(4); 195.307(e);195.428(c); 195.432(c).
(19) API Recommended Practice 1162, “Public Awareness Programs for Pipeline Operators” (1st edition, December 2003) | §§ 195.440(a); 195.440(b); 195.440(c).
C. ASME International (ASME):
(1) ANSI/ASME B16.9-2007 (December 2007), “Factory-Made Wrought Steel Butt Welding Fittings” | § 195.118(a).
(2) ANSI/ASME B31.4-2006) (October 2006), “Pipeline Transportation Systems for Liquid Hydrocarbons and Other Liquids” | § 195.452(h)(4)(i).
(3) ANSI/ASME B31G-1991 (Reaffirmed; 2004), “Manual for Determining the Remaining Strength of Corroded Pipelines” | §§ 195.452(h)(4)(i)(B); 195.452(h)(4)(iii)(D).
(4) ANSI/ASME B31.8-2007 (November 2007), “Gas Transmission and Distribution Piping Systems” | §§ 195.5(a)(1)(i); 195.406(a)(1)(i).
(5) ASME Boiler and Pressure Vessel Code, Section VIII, Division 1, “Rules for Construction of Pressure Vessels,” (2007 edition, July 1, 2007) | §§ 195.124; 195.307(e).
(6) ASME Boiler and Pressure Vessel Code, Section VIII, Division 2, “Alternate Rules for Construction for Pressure Vessels” (2007 edition, July 1, 2007) | § 195.307(e).
(7) ASME Boiler and Pressure Vessel Code, Section IX, “Welding and Brazing Qualifications,” (2007 edition, July 1, 2007) | § 195.222.
D. Manufacturers Standardization Society of the Valve and Fittings Industry, Inc. (MSS):
(1) MSS SP-75-2004, “Specification for High Test Wrought Butt Welding Fittings” (1993) | § 195.118(a).
(2) [Reserved]
E. American Society for Testing and Materials (ASTM):
(1) ASTM A53/A53M-07 (2007), “Standard Specification for Pipe, Steel, Black and Hot-Dipped, Zinc-Coated Welded and Seamless” | § 195.106(e).
(2) ASTM A106/A106M-08 (2008), “Standard Specification for Seamless Carbon Steel Pipe for High-Temperature Service” | § 195.106(e).
(3) ASTM A333/A 333M-05 (2004), “Standard Specification for Seamless and Welded Steel Pipe for Low-Temperature Service” | § 195.106(e).
(4) ASTM A381-96 (Reapproved 2005), “Standard Specification for Metal-Arc-Welded Steel Pipe for Use With High-Pressure Transmission Systems” | § 195.106(e).
(5) ASTM A671-06 (2006), “Standard Specification for Electric-Fusion-Welded Steel Pipe for Atmospheric and Lower Temperatures” | § 195.106(e).
(6) ASTM A672-08 (2008), “Standard Specification for Electric-Fusion-Welded Steel Pipe for High-Pressure Service at Moderate Temperatures” | § 195.106(e).
(7) ASTM A691-98 (2007), “Standard Specification for Carbon and Alloy Steel Pipe Electric-Fusion-Welded for High-Pressure Service at High Temperatures” | § 195.106(e).
F. National Fire Protection Association (NFPA):
(1) NFPA 30 (2008), “Flammable and Combustible Liquids Code” | § 195.264(b)(1).
(2) [Reserved]
G. NACE International (NACE):
(1) NACE Standard SP0169-2007, “Control of External Corrosion on Underground or Submerged Metallic Piping Systems” | §§ 195.571; 195.573.
(2) NACE Standard SP0502-2008, “Pipeline External Corrosion Direct Assessment Methodology” | § 195.588.

20. In § 195.116, revise paragraph (d) to read as follows:

§ 195.116 Valves.

* * * * *

(d) Each valve must be both hydrostatically shell tested and hydrostatically seat tested without leakage to at least the requirements set forth in section 11 of API Standard 6D (incorporated by reference, see § 195.3).

* * * * *

21. Add § 195.207 to subpart D to read as follows:

§ 195.207 Transportation of pipe.

(a) Railroad. In a pipeline operated at a hoop stress of 20 percent or more of SMYS, an operator may not use pipe having an outer diameter to wall thickness ratio of 70 to 1, or more, that is transported by railroad unless the transportation is performed in accordance with API RP 5L1 (incorporated by reference, see § 195.3).

(b) Ship or barge. In a pipeline operated at a hoop stress of 20 percent or more of SMYS, an operator may not use pipe having an outer diameter to wall thickness ratio of 70 to 1, or more, that is transported by ship or barge on both inland and marine waterways, unless the transportation is performed in accordance with API RP 5LW (incorporated by reference, see § 195.3).

22. In § 195.307, revise paragraph (c) to read as follows:

§ 195.307 Pressure testing aboveground breakout tanks.

* * * * *

(c) For aboveground breakout tanks built to API Standard 650 and first placed in service after October 2, 2000, testing must be in accordance with section 5.2 of API Standard 650 (incorporated by reference, see § 195.3).

* * * * *

23. In § 195.401, paragraph (b) is revised to read as follows:

§ 195.401 General requirements.

* * * * *

(b) An operator must make repairs on its pipeline system according to the following requirements:

(1) Non Integrity management repairs. Whenever an operator discovers any condition that could adversely affect the safe operation of its pipeline system, it must correct the condition within a reasonable time. However, if the condition is of such a nature that it presents an immediate hazard to persons or property, the operator may not operate the affected part of the system until it has corrected the unsafe condition.

(2) Integrity management repairs. When an operator discovers a condition on a pipeline covered under § 195.452, the operator must correct the condition as prescribed in § 195.452 (h).

* * * * *

24. In § 195.432, paragraph (b) is revised to read as follows:

§ 195.432 Inspection of in-service breakout tanks.

* * * * *

(b) Each operator must inspect the physical integrity of in-service atmospheric and low-pressure steel aboveground breakout tanks according to API Standard 653 (incorporated by reference, see § 195.3). However, if structural conditions prevent access to the tank bottom, the bottom integrity may be assessed according to a plan included in the operations and maintenance manual under § 195.402(c)(3).

* * * * *

25. In § 195.452, paragraphs (h)(4)(i) introductory text is revised to read as follows:

§ 195.452 Pipeline integrity management in high consequence areas.

* * * * *

(h) * * *

(4) * * *

(i) Immediate repair conditions. An operator's evaluation and remediation schedule must provide for immediate repair conditions. To maintain safety, an operator must temporarily reduce operating pressure or shut down the pipeline until the operator completes the repair of these conditions. An operator must calculate the temporary reduction in operating pressure using the formula in section 451.6.2.2(b) of ANSI/ASME B31.4 (incorporated by reference, see § 195.3). An operator must treat the following conditions as immediate repair conditions:

* * * * *

26. Section 195.571 is revised to read as follows:

§ 195.571 What criteria must I use to determine the adequacy of cathodic protection?

Cathodic protection required by this subpart must comply with one or more of the applicable criteria and other considerations for cathodic protection contained in paragraphs 6.2 and 6.3 of NACE SP 0169 (incorporated by reference, see § 195.3).

27. In § 195.573, paragraph (a)(2) is revised to read as follows:

§ 195.573 What must I do to monitor external corrosion control?

(a) * * *

(2) Identify not more than 2 years after cathodic protection is installed, the circumstances in which a close-interval survey or comparable technology is practicable and necessary to accomplish the objectives of paragraph 10.1.1.3 of NACE SP 0169 (incorporated by reference, see § 195.3).

* * * * *

28. In § 195.588, paragraphs (b)(1), (b)(2) introductory text, (b)(2)(iii), (b)(3) introductory text, (b)(4) introductory text, (b)(4)(ii), (b)(4)(iv), (b)(5) introductory text, and (b)(5)(ii) are revised to read as follows:

§ 195.588 What standards apply to direct assessment?

* * * * *

(b) * * *

(1) General. You must follow the requirements of NACE SP0502 (incorporated by reference, see § 195.3). Also, you must develop and implement an ECDA plan that includes procedures addressing pre-assessment, indirect examination, direct examination, and post-assessment.

(2) Pre-assessment. In addition to the requirements in Section 3 of NACE SP0502, the ECDA plan procedures for pre-assessment must include—

* * * * *

(iii) If you utilize an indirect inspection method not described in Appendix A of NACE SP0502, you must demonstrate the applicability, validation basis, equipment used, application procedure, and utilization of data for the inspection method.

(3) Indirect examination. In addition to the requirements in Section 4 of NACE SP0502, the procedures for indirect examination of the ECDA regions must include—

* * * * *

(4) Direct examination. In addition to the requirements in Section 5 of NACE SP0502, the procedures for direct examination of indications from the indirect examination must include—

* * * * *

(ii) Criteria for deciding what action should be taken if either:

(A) Corrosion defects are discovered that exceed allowable limits (Section 5.5.2.2 of NACE SP0502 provides guidance for criteria); or

(B) Root cause analysis reveals conditions for which ECDA is not suitable (Section 5.6.2 of NACE SP0502 provides guidance for criteria);

* * * * *

(iv) Criteria that describe how and on what basis you will reclassify and re-prioritize any of the provisions specified in Section 5.9 of NACE SP0502.

(5) Post assessment and continuing evaluation. In addition to the requirements in Section 6 of NACE SP 0502, the procedures for post assessment of the effectiveness of the ECDA process must include—

* * * * *

(ii) Criteria for evaluating whether conditions discovered by direct examination of indications in each ECDA region indicate a need for reassessment of the pipeline segment at an interval less than that specified in Sections 6.2 and 6.3 of NACE SP0502 (see appendix D of NACE SP0502).

29. In Appendix C to Part 195, paragraph (I)(A) introductory text is revised to read as follows:

Appendix C to Part 195—Guidance for Implementation of an Integrity Management Program

* * * * *

I. * * *

A. The rule defines a High Consequence Area as a high population area, an other populated area, an unusually sensitivearea, or a commercially navigable waterway. The Office of Pipeline Safety (OPS) will map these areas on the National Pipeline Mapping System (NPMS). An operator, or government official may access the data from the NPMS home page http://www.npms.phmsa.dot.gov/. OPS maintains the NPMS and may update it periodically. However, it is an operator's responsibility to ensure that it has identified all high consequence areas that could be affected by a pipeline segment. An operator is also responsible for periodically evaluating its pipeline segments to look for population or environmental changes that may have occurred around the pipeline and to keep its program current with this information. (Refer to § 195.452(d)(3)).

* * * * *

Issued in Washington, DC, on July 16, 2009.
Jeffrey D. Wiese,
Associate Administrator for Pipeline Safety.

[FR Doc. E9-17307 Filed 7-21-09; 8:45 am]

BILLING CODE 4910-60-P